DEPARTMENT OF COMMERCE

National Oceanic and Atmospheric Administration

[RTID 0648-XA752]

Pacific Fishery Management Council; Public Meeting

AGENCY: National Marine Fisheries Service (NMFS), National Oceanic and Atmospheric Administration (NOAA), Commerce.

ACTION: Notice of a public meeting.

SUMMARY: The Highly Migratory Species (HMS) Subcommittee of the Pacific Fishery Management Council's (Pacific Council's) Scientific and Statistical Committee (SSC) will hold an online meeting to advise on a best scientific information available (BSIA) determination by NMFS on the use of new stock assessments to determine management limit reference points and status determination criteria (SDC) for managing bigeye and yellowfin tunas. The meeting is open to the public.

DATES: The SSC HMS Subcommittee's online meeting will be held Thursday, February 4, 2021 beginning at 1 p.m. PST and continuing until 5 p.m. or until business for the day has been completed. The meeting will reconvene, if needed, on February 5, 2021 beginning at 9 a.m. PST and continuing until 1 p.m. or until business for the day has been completed.

ADDRESSES: The SSC HMS Subcommittee meeting will be an online meeting.

Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the SSC HMS Subcommittee meeting is to discuss new stock assessments for bigeye and yellowfin tunas, which use a new probabilistic framework for informing management decisions. Specifically, the SSC HMS Subcommittee members and NMFS staff will discuss recommendations for maximum fishing mortality threshold proxies for SDC determinations based on BSIA for these tropical tuna species using new probabilistic assessments, as well as options for using probabilistic framework assessment for HMS status determinations, more generally.

The SSC HMS Subcommittee members' role will be development of recommendations and reports for consideration by the SSC and the Pacific Council at the March meeting of the Pacific Council.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the SSC HMS Subcommittee to take final action to address the emergency.

Special Accommodations

This meeting is physically accessible to people with disabilities. Requests for sign language interpretation or other auxiliary aids should be directed to Mr. Kris Kleinschmidt (503) 820-2412 at least 10 business days prior to the meeting date.

Authority: 16 U.S.C. 1801 et seq.

Dated: January 7, 2021.
Rey Israel Marquez,
Acting Deputy Director, Office of Sustainable Fisheries, National Marine Fisheries Service.

[FR Doc. 2021-00418 Filed 1-11-21; 8:45 am]

BILLING CODE 3510-22-P